DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve an extension of the currently approved information collection project: “Medical Expenditures Panel Survey—Insurance Component.”

DATES: Comments on this notice must be received by January 13, 2025.

ADDRESSES: Written comments should be submitted to: Doris Lefkowitz, Reports Clearance Officer, AHRQ, by email at REPORTSCLEARANCEOFFICER@ahrq.hhs.gov.

FOR FURTHER INFORMATION CONTACT: Doris Lefkowitz, AHRQ Reports Clearance Officer, (301) 427-1477, or by email at REPORTSCLEARANCEOFFICER@ahrq.hhs.gov.

SUPPLEMENTARY INFORMATION:

Proposed Project

Medical Expenditures Panel Survey—Insurance Component

AHRQ requests an extension of the Medical Expenditure Panel Survey—Insurance Component (MEPS-IC), OMB control number 0935-0110. No revisions are being made to the data collection. The current expiration date is January 31st, 2026. AHRQ requests a new expiration date, 3 years from approval.

In 2023, employer-sponsored health insurance was the source of coverage for 95.3 million workers and their family members and is a cornerstone of the U.S. health care system. The Medical Expenditure Panel Survey—Insurance Component (MEPS-IC) measures the extent, cost, and coverage of employer-sponsored health insurance on an annual basis. These statistics are produced at the National, State, and sub-State (metropolitan area) level for private industry. Statistics are also produced for State and Local governments.

This research has the following goals:

(1) to provide data for Federal policymakers evaluating the effects of National and State health care reforms.

(2) to provide descriptive data on the current employer-sponsored health insurance system and data for modeling the differential impacts of proposed health policy initiatives.

(3) to supply critical State and National estimates of health insurance spending for the National Health Accounts and Gross Domestic Product.

This study is being conducted by AHRQ through its contractor, the Bureau of the Census, pursuant to AHRQ's statutory authority to conduct and support research on health care and on systems for the delivery of such care, including activities with respect to the cost and use of health care services and with respect to health statistics and surveys. 42 U.S.C. 299a(a)(3) and 42 U.S.C. 299b-2.

Method of Collection

To achieve the goals of this project the following data collections for both private sector and state and local government employers will be implemented:

(1) Prescreener Questionnaire—The purpose of the Prescreener Questionnaire, which is collected via telephone, varies depending on the insurance status of the establishment contacted (establishment is defined as a single, physical location in the private sector and a governmental unit in state and local governments.) For establishments that do not offer health insurance to their employees, the prescreener is used to collect basic information such as number of employees. Collection is completed for these establishments through this telephone call. For establishments that do offer health insurance, contact name and address information is collected that is used for the mailout of the establishment and plan questionnaires. Obtaining this contact information helps ensure that the questionnaires are directed to the person in the establishment best equipped to complete them.

(2) Establishment Questionnaire—The purpose of the Establishment Questionnaire, which is collected via internet or mail, is to obtain general information from employers that provide health insurance to their employees. Information such as total active enrollment in health insurance, other employee benefits, demographic characteristics of employees, and retiree health insurance is collected through the establishment questionnaire.

(3) Plan Questionnaire—The purpose of the Plan Questionnaire, which is collected via internet or mail, is to collect plan-specific information on each plan (up to four plans) offered by establishments that provide health insurance to their employees. This questionnaire obtains information on total premiums, employer and employee contributions to the premium, and plan enrollment for each type of coverage offered—single, employee-plus-one, and family—within a plan. It also asks for information on deductibles, copays, and other plan characteristics.

Beginning with survey year 2009, web-based electronic collection has been used to collect MEPS-IC data, making it easier for respondents to report, and also allowing for faster data processing. This has been used successfully for other Census Bureau surveys and has been very popular with respondents. Beginning with survey year 2020, email addresses are collected in order to email sample members with a link to respond to the survey using the internet. Since 2020, web has become the primary mode of data collection; mail mode is used as follow-up.

Computer Assisted Telephone Interviewing (CATI) technology has been an integral tool for prescreening of respondents and telephone follow-up in the MEPS-IC since the survey's inception.

A Business Help Site (BHS) was established on the internet by the Census Bureau for respondents to visit to view copies of the forms, definitions, and frequently asked questions. Secure messaging can be used by respondents through the BHS to ask reporting questions and receive quick responses.

Estimated Annual Respondent Burden

Exhibit 1 shows the estimated annualized burden hours for the respondents' time to participate in the MEPS-IC. The Prescreener Questionnaire will be completed by 18,900 respondents and takes 5 minutes to complete. The Establishment Questionnaire will be completed by 21,900 respondents and takes 20 minutes to complete. The Prescreener and Establishment Questionnaires require 1 response per respondent. The Plan Questionnaire will be completed by 18,900 respondents and will require an average of 2.3 responses per respondent. Each Plan Questionnaire takes 11 minutes to complete. The total annualized burden hours are estimated to be 16,845 hours.

Exhibit 1—Estimated Annualized Burden Hours for the 2025-2027 MEPS-IC
Form name | Number of respondents | Number of responses per respondent | Minutes per response | Total burden hours
Prescreener Questionnaire | 18,900 | 1 | 5 | 1,575
Establishment Questionnaire | 21,900 | 1 | 20 | 7,300
Plan Questionnaire | 18,900 | 2.3 | 11 | 7,970
Total | 59,700 | n/a | n/a | 16,845
* The burden estimate printed on the establishment questionnaire is 45 minutes, which includes the burden estimate for completing the establishment questionnaire and two plan questionnaires (on average, each establishment completes 2.3 plan questionnaires). The establishment and plan questionnaires are sent to the respondent as a package and are completed by the respondent at the same time.

Exhibit 2 shows the estimated annualized cost burden associated with the respondents' time to participate in this data collection. The annualized cost burden is estimated to be $652,893.

Exhibit 2—Estimated Annualized Cost Burden for the 2025-2027 MEPS-IC
Form name | Number of respondents | Total burden hours | Average hourly wage rate * | Total cost burden
Prescreener Questionnaire | 18,900 | 1,575 | 38.76 | $61,047
Establishment Questionnaire | 21,900 | 7,300 | 38.76 | 282,948
Plan Questionnaire | 18,900 | 7,970 | 38.76 | 308,898
Total | 59,700 | 16,845 | n/a | 652,893
* Based upon the mean hourly wage for Compensation, Benefits, and Job Analysis Specialists occupation code 13-1141, at https://www.bls.gov/oes/current/oes131141.htm (U.S. Department of Labor, Bureau of Labor Statistics.)

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: November 5, 2024.
Marquita Cullom,
Associate Director.

[FR Doc. 2024-26207 Filed 11-12-24; 8:45 am]

BILLING CODE 4160-90-P